ENVIRONMENTAL PROTECTION AGENCY

[FRL-7773-6]

Clean Water Act Section 303(d): Final Agency Action on 3 Total Maximum Daily Loads (TMDLs)

AGENCY: Environmental Protection Agency (EPA).

ACTION: Notice of availability.

SUMMARY: This notice announces final agency action on 3 TMDLs prepared by EPA Region 6 for waters listed in the state of Arkansas, under section 303(d) of the Clean Water Act (CWA). These TMDLs were completed in response to the lawsuit styled Sierra Club, et al. v. Clifford, et al., No. LR-C-99-114. Documents from the administrative record files for the final 3 TMDLs, including TMDL calculations and responses to comments, may be viewed at http://www.epa.gov/earth1r6/6wq/artmdl.htm.

ADDRESSES: The administrative record files for these 3 TMDLs may be obtained by writing or calling Ms. Ellen Caldwell, Environmental Protection Specialist, Water Quality Protection Division, U.S. Environmental Protection Agency Region 6, 1445 Ross Ave., Dallas, TX 75202-2733. Please contact Ms. Caldwell to schedule an inspection.

FOR FURTHER INFORMATION CONTACT: Ellen Caldwell at (214) 665-7513.

SUPPLEMENTARY INFORMATION: In 1999, five Arkansas environmental groups, the Sierra Club, Federation of Fly Fishers, Crooked Creek Coalition, Arkansas Fly Fishers, and Save our Streams (plaintiffs), filed a lawsuit in Federal Court against the EPA, styled Sierra Club, et al. v. Clifford, et al., No. LR-C-99-114. Among other claims, plaintiffs alleged that EPA failed to establish Arkansas TMDLs in a timely manner.

EPA Takes Final Agency Action on 3 TMDLs
[By this notice EPA is taking final agency action on the following 3 TMDLs for waters located within the State of Arkansas]
Segment-reach | Waterbody name | Pollutant
08040201-80 | Big Johnson Lake | Mercury in fish tissue.
08040204-27 | Grays Lake | Mercury in fish tissue.
08040204 | Monticello Lake | Mercury in fish tissue.

EPA requested the public to provide EPA with any significant data or information that may impact the 3 TMDLs at Federal Register notice 69 FR 19183 (April 12, 2004). No comments were received.

Dated: June 8, 2004.
Miguel I. Flores,
Director, Water Quality Protection Division, Region 6.

[FR Doc. 04-13686 Filed 6-18-04; 8:45 am]

BILLING CODE 6560-50-P